NUCLEAR REGULATORY COMMISSION

[Docket Nos. 50-266 and 301]

Nuclear Management Company, LLC; Notice of Withdrawal of Application for Amendment To Renewed Facility Operating License Nos. DPR-24 and DPR-27; FPL Energy Point Beach, LLC; Point Beach Nuclear Plant, Units 1 and 2

The U.S. Nuclear Regulatory Commission (the Commission) has granted the request of FPL Energy Point Beach, LLC, (the licensee) to withdraw its October 1, 2007, application for proposed amendment to Renewed Facility Operating License Nos. DPR-24 and DPR-27 for the Point Beach Nuclear Plant, Units No. 1 and 2, located in Manitowoc County, Wisconsin.

The proposed amendment would have revised the accident source term in the design-basis radiological consequences analyses and the associated Technical Specifications (TSs), pursuant to Section 50.67 of Part 50 of Title 10 of the Code of Federal Regulations(10 CFR 50.67).

The Commission had previously issued a Notice of Consideration of Issuance of Amendment published in the Federal Register on November 20, 2007, (72 FR 65366). However, by letter dated January 30, 2008, the licensee withdrew the proposed change.

For further details with respect to this action, see the application for amendment dated October 1, 2007, and the licensee's letter dated January 30, 2008, which withdrew the application for a license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 6th day of February 2008.
For the Nuclear Regulatory Commission.
Jack Cushing,
Senior Project Manager, Plant Licensing Branch III-1, Division of Operating Reactor Licensing, Office of Nuclear Reactor Regulation.

[FR Doc. E8-2711 Filed 2-12-08; 8:45 am]

BILLING CODE 7590-01-P